DEPARTMENT OF COMMERCE

Foreign-Trade Zones Board

[B-25-2014]

Foreign-Trade Zone 90—Onondaga County, NY; Authorization of Production Activity; PPC Broadband, Inc., (Coaxial Cable Connectors) Dewitt, NY

On March 10, 2014, the Onondaga County Office of Economic Development, grantee of FTZ 90, submitted a notification of proposed production activity to the Foreign-Trade Zones (FTZ) Board on behalf of PPC Broadband, Inc., within Subzone 90C, in Dewitt, New York.

The notification was processed in accordance with the regulations of the FTZ Board (15 CFR part 400), including notice in the Federal Register inviting public comment (79 FR 16279, 03/25/2014). The FTZ Board has determined that no further review of the activity is warranted at this time. The production activity described in the notification is authorized, subject to the FTZ Act and the Board's regulations, including Section 400.14.

Dated: July 8, 2014.
Andrew McGilvray,
Executive Secretary.

[FR Doc. 2014-16772 Filed 7-15-14; 8:45 am]

BILLING CODE 3510-DS-P